DEPARTMENT OF TRANSPORTATION

Federal Aviation Administration

14 CFR Part 39

[Docket No. FAA-2025-1354; Project Identifier MCAI-2025-00012-T; Amendment 39-23154; AD 2025-20-01]

RIN 2120-AA64

Airworthiness Directives; ATR—GIE Avions de Transport Régional Airplanes

AGENCY: Federal Aviation Administration (FAA), DOT.

ACTION: Final rule.

SUMMARY: The FAA is adopting a new airworthiness directive (AD) for certain ATR—GIE Avions de Transport Régional Model ATR42-500 and ATR72 airplanes. This AD was prompted by an investigation indicating that an erroneous monitoring of the travel limitation unit (TLU) could occur when the airplane is flying above a certain speed as a result of the logic input from either air data computer (ADC) 1 or ADC2 input. This AD requires modifying airplanes by installing one or two relays and associated wiring and testing of the TLU monitoring logic. The FAA is issuing this AD to address the unsafe condition on these products.

DATES: This AD is effective November 6, 2025.

The Director of the Federal Register approved the incorporation by reference of a certain publication listed in this AD as of November 6, 2025.

ADDRESSES:

AD Docket: You may examine the AD docket at regulations.gov under Docket No. FAA-2025-1354; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this AD, contact EASA, Konrad-Adenauer-Ufer 3, 50668 Cologne, Germany; telephone +49 221 8999 000; email ADs@easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2025-1354.

FOR FURTHER INFORMATION CONTACT: Jonathan Duong, Aviation Safety Engineer, FAA, 1600 Stewart Avenue, Suite 410, Westbury, NY 11590; phone: 516-228-7362; email: 9-AVS-AIR-BACO-COS@faa.gov.

SUPPLEMENTARY INFORMATION:

Background

The FAA issued a notice of proposed rulemaking (NPRM) to amend 14 CFR part 39 by adding an AD that would apply to certain ATR—GIE Avions de Transport Régional Model ATR42-500 and ATR72 airplanes. The NPRM was published in the Federal Register on July 7, 2025 (90 FR 29802). The NPRM was prompted by AD 2025-0004, dated January 7, 2025 (EASA AD 2025-0004) (also referred to as the MCAI), issued by EASA, which is the Technical Agent for the Member States of the European Union. The MCAI states that an ATR internal review of the TLU new avionics suite design identified an erroneous behavior of core processing module (CPM) 2, hosting the data concentration application (DCA) 2, that might affect the TLU command, monitoring, and indication. Further investigation results indicated that an erroneous monitoring of the TLU could occur when the airplane is flying above a certain speed due to the logic input from either ADC1 or ADC2 input.

In the NPRM, the FAA proposed to require modification of airplanes by installing one or two relays and associated wiring and testing of the TLU monitoring logic, as specified in EASA AD 2025-0004. The FAA is issuing this AD to address erroneous behavior of CPM 2, hosting the DCA 2, that could affect the TLU command, monitoring, and indication. This condition, if not corrected, could result in the rudder deflection not being limited at high airplane speed, which, if combined with a large rudder pedal input, could lead to the loss of control of the airplane.

You may examine the MCAI in the AD docket at regulations.gov under Docket No. FAA-2025-1354.

Discussion of Final Airworthiness Directive

Comments

The FAA received a comment from the Air Line Pilots Association, International (ALPA) who supported the NPRM without change.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed EASA AD 2025-0004, which specifies procedures for modifying airplanes by installing one or two relays and associated wiring. EASA AD 2025-0004 also specifies procedures for an operational test of the TLU monitoring logic after the modification, a functional test of the rudder travel limiter unit, and obtaining and following instructions to correct any failed test. For airplanes on which a previous revision of the applicable service information has been accomplished, EASA AD 2025-0004 specifies accomplishing “Additional Work,” which consists of a functional test of the rudder travel limiter unit. This material is reasonably available because the interested parties have access to it through their normal course of business or by the means identified in the ADDRESSES section.

Costs of Compliance

The FAA estimates that this AD affects 43 airplanes of U.S. registry. The FAA estimates the following costs to comply with this AD:

Estimated Costs for Required Actions
Labor cost | Parts cost | Cost per product | Cost on U.S. operators
Up to 15 work-hours × $85 per hour = $1,275 | Up to $2,889 | Up to $4,164 | Up to $179,052.

The FAA has received no definitive data on which to base the cost estimates for the on-condition actions specified in this AD.

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-20-01 ATR—GIE Avions de Transport Régional: Amendment 39-23154; Docket No. FAA-2025-1354; Project Identifier MCAI-2025-00012-T.

(a) Effective Date

This airworthiness directive (AD) is effective November 6, 2025.

(b) Affected ADs

None.

(c) Applicability

This AD applies to the ATR—GIE Avions de Transport Régional airplanes identified in paragraphs (c)(1) and (2) of this AD, certificated in any category, as identified in European Union Aviation Safety Agency (EASA) AD 2025-0004, dated January 7, 2025 (EASA AD 2025-0004).

(1) ATR42-500 airplanes.

(2) ATR72-101, -102, -201, -202, -211, -212, and -212A airplanes.

(d) Subject

Air Transport Association (ATA) of America Code 27, Flight Controls.

(e) Unsafe Condition

This AD was prompted by an investigation indicating that an erroneous monitoring of the travel limitation unit (TLU) could occur when the airplane is flying above a certain speed as a result of the logic input from either air data computer (ADC) 1 or ADC2 input. The FAA is issuing this AD to address this condition, which if not detected and corrected, could result in the rudder deflection not being limited at high airplane speed, which, if combined with a large rudder pedal input, could lead to the loss of control of the airplane.

(f) Compliance

Comply with this AD within the compliance times specified, unless already done.

(g) Requirements

Except as specified in paragraph (h) of this AD: Comply with all required actions and compliance times specified in, and in accordance with, EASA AD 2025-0004.

(h) Exceptions to EASA AD 2025-0004

(1) Where EASA AD 2025-0004 refers to its effective date, this AD requires using the effective date of this AD.

(2) Paragraph (1) of EASA AD 2025-0004 applies to all airplanes except for airplanes identified in paragraph (4) of EASA AD 2025-0004.

(3) Where paragraph (3) of EASA AD 2025-0004 specifies “as required by paragraph (2) of this AD”, this AD requires replacing that text with “as required by paragraphs (2) and (4) of this AD”.

(4) Where paragraph (4) of EASA AD 2025-0004 specifies “the additional work”, this AD requires replacing that text with “the functional test of the rudder Travel Limiter Unit”.

(5) This AD does not adopt the “Remarks” section of EASA AD 2025-0004.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, send it to the attention of the person identified in paragraph (j) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or ATR—GIE Avions de Transport Régional's EASA Design Organization Approval (DOA). If approved by the DOA, the approval must include the DOA-authorized signature.

(j) Additional Information

For more information about this AD, contact Jonathan Duong, Aviation Safety Engineer, FAA, 1600 Stewart Avenue, Suite 410, Westbury, NY 11590; phone: 516-228-7362; email: 9-AVS-AIR-BACO-COS@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2025-0004, dated January 7, 2025.

(ii) [Reserved]

(3) For EASA material identified in this AD, contact EASA, Konrad-Adenauer-Ufer 3, 50668 Cologne, Germany; telephone +49 221 8999 000; email ADs@easa.europa.eu. You may find this material on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on September 26, 2025.
Steven W. Thompson,
Acting Deputy Director, Compliance & Airworthiness Division, Aircraft Certification Service.

[FR Doc. 2025-19393 Filed 10-1-25; 8:45 am]

BILLING CODE 4910-13-P